ENVIRONMENTAL PROTECTION AGENCY

40 CFR Part 300

[FRL-7033-1]

National Oil and Hazardous Substance Pollution Contingency Plan National Priorities List

ACTION: Notice of intent to delete the Tronic Plating Co., Inc. Superfund Site from the National Priorities List.

SUMMARY: The Environmental Protection Agency (EPA) Region II is issuing a notice of intent to delete the Tronic Plating Co., Inc. Superfund Site (Site) located in Farmingdale, New York, from the National Priorities List (NPL) and requests public comments on this notice of intent. The NPL, promulgated pursuant to Section 105 of the Comprehensive Environmental Response, Compensation, and Liability Act (CERCLA) of 1980, as amended, is found as Appendix B of 40 CFR Part 300 of the National Oil and Hazardous Substances Pollution Contingency Plan (NCP). The EPA and the State of New York , through the New York State Department of Environmental Conservation (NYSDEC), have determined that all appropriate response actions under CERCLA have been completed. However, this deletion does not preclude future options under Superfund.

In the “Rules and Regulations” Section of today's Federal Register, we are publishing a direct final notice of deletion of the Site without prior notice of intent to delete because we view this as a noncontroversial revision and anticipate no significant adverse comment. We have explained our reasons for this deletion in the preamble to the direct final deletion. If we receive no adverse comment(s) on this notice of intent to delete or the direct final notice of deletion, we will not take further action on this notice of intent to delete. If we receive adverse comment(s), we will withdraw the direct final notice of deletion and it will not take effect. We will, as appropriate, address all public comments. If, after evaluating public comments, EPA decides to proceed with deletion, we will do so in a subsequent final notice based on this notice of intent to delete. We will not institute a second comment period on this notice of intent to delete. Any parties interested in commenting must do so at this time. For additional information, see the direct final notice of deletion which is located in the Rules section of this Federal Register.

DATES: Comments concerning this Site must be received by September 13, 2001.

ADDRESSES: Written comments should be addressed to: Gloria M. Sosa, Remedial Project Manager, Emergency and Remedial Response Division, U.S. Environmental Protection Agency, Region II, 290 Broadway, 20th Floor, New York, New York 10007-1866.

FOR FURTHER INFORMATION CONTACT: Ms. Gloria M. Sosa at the address provided above; or by telephone at (212) 637-4283 or by fax at (212) 637-4284.

SUPPLEMENTARY INFORMATION: For additional information, see the Direct Final Notice of Deletion which is located in the Rules section of this Federal Register.

Information Repositories: Comprehensive information on this Site is available for viewing and copying at the following information repository located at: U.S. Environmental Protection Agency, Region II, Superfund Records Center, 290 Broadway, Room 1828, New York, New York 10007-1866, (212) 637-4308, Hours: 9 a.m. to 5 p.m., Monday through Friday.

Information on the Site is also available for viewing at the following information repository: Farmingdale Public Library, 274 Main Street, Farmingdale, New York 11735, (516) 249-9090, Hours: 9 a.m.-9 p.m., Friday and Saturday, 9 a.m.-5 p.m.

Authority: 33 U.S.C. 1321(c)(2); 42 U.S.C. 9601-9657; E.O. 12777, 56 FR 54757, 3 CFR, 1991 Comp.; p. 351; E.O. 12580, 52 FR 2923, 3 CFR, 1987 Comp.; p. 193.

Dated: July 13, 2001.
Kathleen C. Callahan,
Acting Regional Administrator, Region II.

[FR Doc. 01-20256 Filed 8-13-01; 8:45 am]

BILLING CODE 6560-50-P